NATIONAL AERONAUTICS AND SPACE ADMINISTRATION

[Notice: 24-073]

International Space Station Advisory Committee

AGENCY: National Aeronautics and Space Administration.

ACTION: Notice of meeting.

SUMMARY: In accordance with the Federal Advisory Committee Act, the National Aeronautics and Space Administration (NASA) announces a meeting of the NASA International Space Station Advisory Committee. The purpose of the meeting is to review aspects related to the safety and operational readiness of the International Space Station.

DATES: November 13, 2024, 10-11:00 a.m. All times are eastern time.

ADDRESSES: Public attendance will be virtual only. See dial-in and Webinar information below under SUPPLEMENTARY INFORMATION.

FOR FURTHER INFORMATION CONTACT: Dennis McSweeney, Designated Federal Officer, ISS Advisory Committee, NASA Headquarters, Washington, DC 20546, via email at dennis.mcsweeney@nasa.gov or at 202-834-7351.

SUPPLEMENTARY INFORMATION: As noted above, this meeting will be open to the public via Webinar and telephonically. Webinar connectivity information is provided below. For audio, when you join the Webinar event, you may use your computer to join or call the U.S. toll conference number listed.

November 13, 2024, link: https://teams.microsoft.com/l/meetup-join/19%3ameeting_NjcwNWIxYTktYjMyYy00OWIwLWI1Y2ItZDBmZjg3OGRkYmYx%40thread.v2/0?context=%7b%22Tid%22%3a%227005d458-45be-48ae-8140-d43da96dd17b%22%2c%22Oid%22%3a%22453f1a86-a177-4251-b896-a3c23cc1a9a1%22%7d.

Meeting ID: 276 024 759 223, Passcode: Ktdm9N, Call in number (audio only): +1 256-715-9946, Phone conference ID: 450362467#.

It is imperative that the meeting be held on this day to accommodate the scheduling priorities of the key participants.

Jamie M. Krauk,
Advisory Committee Management Officer, National Aeronautics and Space Administration.

[FR Doc. 2024-24769 Filed 10-24-24; 8:45 am]

BILLING CODE 7510-13-P